DEPARTMENT OF THE INTERIOR

Bureau of Land Management

[LLWY930000 L16100000.DS0000]

Notice of Intent To Prepare an Environmental Impact Statement and Resource Management Plan Amendments for the Casper, Kemmerer, Pinedale, Rock Springs, Newcastle, and Rawlins Field Offices, WY

AGENCY: Bureau of Land Management, Interior.

ACTION: Notice of Intent.

SUMMARY: In compliance with the National Environmental Policy Act (NEPA) of 1969, as amended, and the Federal Land Policy and Management Act of 1976, as amended, the Bureau of Land Management (BLM) Wyoming State Office intends to prepare Resource Management Plan (RMP) amendments with an associated Environmental Impact Statement (EIS) for the Casper, Kemmerer, Pinedale, Rock Springs, Newcastle, and Rawlins Resource Management Plans (RMPs) and by this notice is announcing the beginning of the scoping process to solicit public comments and identify issues. The RMP amendments will revise sage-grouse and sagebrush management direction in the existing Casper, Kemmerer, Pinedale, Rock Springs, Newcastle, and Rawlins RMPs to incorporate policies set forth in BLM Wyoming Instruction Memoranda (IM) 2010-012 and 2010-013. The IMs may be accessed at the following Web address: http://www.blm.gov/wy/st/en/programs/wildlife.html.

DATES: This notice initiates the public scoping process for the RMP amendments with associated EIS. Comments on issues may be submitted in writing until June 28, 2010. The date(s) and location(s) of any scoping meetings will be announced at least 15 days in advance through local media and the BLM Web site at: http://www.blm.gov/wy/st/en/programs/Planning/amendments/sage-grouse.html. In order to be included in the Draft RMP amendments, all comments must be received prior to the close of the scoping period or 15 days after the last public meeting, whichever is later. We will provide additional opportunities for public participation upon publication of the Draft RMP amendments.

ADDRESSES: You may submit comments on issues and planning criteria related to the Casper, Kemmerer, Pinedale, Rock Springs, Newcastle, and Rawlins RMP amendments by any of the following methods:

• Web site: http://www.blm.gov/wy/st/en/programs/Planning/amendments/sage-grouse.html;

• E-mail: Sagegrouse_Amendment_WY@blm.gov;

• Fax: (307) 352-0329; and

• Mail: BLM Wyoming State Office (WY 930), 5353 Yellowstone Rd., Cheyenne, Wyoming 82003.

Documents pertinent to this proposal may be examined at the Casper, Kemmerer, Pinedale, Rock Springs, Newcastle, and Rawlins field offices.

FOR FURTHER INFORMATION CONTACT: For further information and/or to have your name added to our mailing list, contact Bill Hill, Deputy State Director, Resources Policy and Management; at (307) 775-6113; 5353 Yellowstone Road, Cheyenne, Wyoming 82003; e-mail: Sagegrouse_Amendment_WY@blm.gov.

SUPPLEMENTARY INFORMATION: This document provides notice that the BLM Wyoming State Office intends to prepare RMP amendments with an associated EIS for the Casper, Kemmerer, Pinedale, Rock Springs, Newcastle, and Rawlins RMPs, announces the beginning of the scoping process, and seeks public input on issues and planning criteria. The planning area is located in Converse, Goshen, Natrona, and Platte counties (Casper Field Office); Lincoln, Sweetwater, and Uinta counties (Kemmerer Field Office); Sublette, Lincoln, and Fremont counties (Pinedale Field Office); Albany, Carbon, Laramie, and Sweetwater counties (Rawlins Field Office); Sweetwater, Sublette and Fremont counties (Rock Springs Field Office); and Niobrara, Weston and Crook counties (Newcastle Field Office) in Wyoming. The planning area encompasses approximately 15 million acres of public land. The purpose of the public scoping process is to determine relevant issues that will influence the scope of the environmental analysis, including alternatives, and guide the planning process. Preliminary issues for the planning area have been identified by BLM personnel; Federal, state, and local agencies; and other stakeholders. The issues include: Sagebrush habitat management practices directly applicable to protection of the sage grouse, sagebrush habitat management science directly applicable to protection of the sage grouse, and the effects of sagebrush habitat management on other public land resources. Preliminary planning criteria include: Incorporation of sage-grouse policies in Wyoming IMs 2010-012 and 2010-013; incorporation of the policies established by the Wyoming Governor's Executive Order on sage-grouse (Wyoming EO 2008-2), as appropriate; and consideration of and consistency with the BLM National Sage-Grouse Habitat Conservation Strategy (November 2004). The RMP amendment process will comply with NEPA, the Federal Land Policy and Management Act (FLPMA), and other applicable laws and policies. You may submit comments on issues and planning criteria in writing or orally to the BLM at any public scoping meeting, or you may submit them to the BLM using one of the methods listed in the ADDRESSES section above. To be most helpful, you should submit comments within 30 days after the last public meeting. Before including your address, phone number, e-mail address, or other personal identifying information in your comment, you should be aware that your entire comment—including your personal identifying information—may be made publicly available at any time. While you may ask us in your comment to withhold your personal identifying information from public review, we cannot guarantee that we will be able to do so. The minutes and list of attendees for each scoping meeting will be available to the public and open for 30 days after the meeting to any participant who wishes to clarify the views he or she expressed. The BLM will evaluate identified issues to be addressed in the plan amendments, and will place them into one of three categories:

1. Issues to be resolved in the amendments;

2. Issues to be resolved through policy or administrative action; or

3. Issues beyond the scope of these amendments.

The BLM will provide an explanation in the Draft RMP amendments/EIS as to why an issue was placed in category two or three. The public is also encouraged to help identify any management questions and concerns that should be addressed in the amendments. The BLM will work collaboratively with interested parties to identify the management decisions that are best suited to local, regional, and national needs and concerns. The BLM will use an interdisciplinary approach to develop the amendments in order to consider the variety of resource issues and concerns identified. Specialists with expertise in the following disciplines will be involved in the planning process: Rangeland management, minerals and geology, outdoor recreation, archaeology, paleontology, wildlife and fisheries, lands and realty, hydrology, soils, sociology, and economics.

Authority: 40 CFR 1501.7, 43 CFR 1610.2.

Donald A. Simpson,
State Director.

[FR Doc. 2010-12838 Filed 5-27-10; 8:45 am]

BILLING CODE 4310-22-P